DEPARTMENT OF THE INTERIOR

Bureau of Indian Affairs

Proclaiming Certain Lands, Maier Property, as an Addition to the Bay Mills Indian Community of Michigan

AGENCY: Bureau of Indian Affairs, Interior.

ACTION: Notice of Reservation Proclamation.

SUMMARY: This notice informs the public that the Assistant Secretary—Indian Affairs proclaimed approximately 40 acres, more or less, to be added to the Bay Mills Indian Community of Michigan.

FOR FURTHER INFORMATION CONTACT: Ben Burshia, Bureau of Indian Affairs, Division of Real Estate Services, Mail Stop 4639-MIB, 1849 C Street, NW., Washington, DC 20240, telephone (202) 208-7737.

SUPPLEMENTARY INFORMATION: This Notice is published in the exercise of authority delegated by the Secretary of the Interior to the Assistant Secretary—Indian Affairs by part 209 of the Departmental Manual.

A proclamation was issued in accordance with Section 7 of the Act of June 18, 1934 (48 Stat. 986; 25 U.S.C. 467), for the land described below. The land was proclaimed to be an addition to and part of the Bay Mills Indian Community of Michigan for the exclusive use of Indians on that Reservation who are entitled to reside at the Reservation by enrollment or tribal membership.

Bay Mills Indian Community Reservation, Michigan Meridian, Township of Superior, Chippewa County, Michigan

The Southwest One Quarter (SW ¼) of the Northwest One-Quarter (NW ¼) of Section 31, Township 47 North, Range 2 West.

Title to the lands herein described shall be subject to any existing easements for public roads and highways, for public utilities and for railroads and pipelines and any other rights-of-way of record.

The above-described lands contain a total of 40 acres, more or less, which are subject to all valid rights, reservations, rights-of-way, and easements of record.

This proclamation does not affect title to the land described above, nor does it affect any valid existing easements for public roads and highways, public utilities and for railroads and pipelines and any other rights-of-way or reservations of record.

Dated: July 7, 2011.
Larry Echo Hawk,
Assistant Secretary—Indian Affairs.

[FR Doc. 2011-17801 Filed 7-13-11; 8:45 am]

BILLING CODE 4310-W7-P